DEPARTMENT OF DEFENSE

Office of the Secretary

President's Information Technology Advisory Committee (PITAC)

ACTION: Notice of meeting; President's Information Technology Advisory Committee (PITAC).

SUMMARY: This meeting is focused on the presentation and deliberation of PITAC's draft report on computational science. Public input will be solicited during a public comment period. An update will also be provided on the dissemination of PITAC's new report Cyber Security: A Crisis of Prioritization. A small fraction of the meeting time may be allocated for other PITAC updates at the discretion of the co-chairs and the designated Federal officer.

DATE: Thursday, April 14, 2005, 10 a.m.-1 p.m. eastern time.

ADDRESS: Hilton Washington Embassy Row Hotel, 2015 Massachusetts Avenue, NW., Washington, DC 20036.

SUPPLEMENTARY INFORMATION: This meeting will also be held via a teleconference and the Internet through the WebEx application. Information about registration for in-person or remote participation will be posted at PITAC's Web site (http://www.nitrd.gov/pitac) by March 31. Meeting information may also be obtained by calling (703) 292-4873. The agenda for the meeting will be posted at PITAC's Web site when it becomes available.

FOR FURTHER INFORMATION CONTACT: Alan Inouye at the National Coordination Office for Information Technology Research and Development at (703) 292-4873 or by e-mail at inouye@nitrd.gov.

Dated: March 17, 2005.
Jeannette Owings-Ballard,
OSD Federal Register Liaison Officer, Department of Defense.

[FR Doc. 05-5747 Filed 3-22-05; 8:45 am]

BILLING CODE 5001-06-M